NATIONAL SCIENCE FOUNDATION

Notice of Permit Applications Received Under the Antarctic Conservation Act of 1978 (Pub. L. 95-541)

AGENCY: National Science Foundation.

ACTION: Notice of permit applications received under the Antarctic Conservation Act of 1978, Pub. L. 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by February 10, 2003. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), has developed regulations that implement the “Agreed Measures for the Conservation of Antarctic Fauna and Flora” for all United States citizens. The Agreed Measures, developed by the Antarctic Treaty Consultative Parties, recommended establishment of a permit system for various activities in Antarctica and designation of certain animals and certain geographic areas a requiring special protection. The regulations establish such a permit system to designate Specially Protected Areas and Sites of Special Scientific Interest.

The Applications Received are as Follows:

Permit Application No. 2003-017

1. Applicant: Bruce D. Sidell, School of Marine Sciences, University of Maine, 5751 Murray Hall, Orono, ME 04469-5751.

Activity for Which Permit Is Requested

Introduce Non-indigenous species into Antarctica. The applicant proposes use frozen fish tissues from species native to Patagonian Chile as bait (mixture of Macruronis magellanicus and Dissostichus eleginoides) in fishing traps/pots in the Antarctic Peninsula. The specimens collected, with particular emphasis upon Channichthyid ice fishes, will be taken to the Palmer Station aquarium facilities and used to study the physiology and biochemistry of Antarctic fishes. The applicant proposes to fish a maximum of 15 traps and estimates using a maximum of 15 blocks of frozen fish bait (10-15kg).

Location

Antarctic Peninsula area in the vicinities of Low, Brabant, Anvers, and Livingston Island, as well as Dellman Bay.

Dates

April 5, 2003 to August 30, 2005.

Nadene G. Kennedy,
Permit Officer, Office of Polar Programs.

[FR Doc. 03-450 Filed 1-9-03; 8:45 am]

BILLING CODE 7555-01-M